DEPARTMENT OF ENERGY

Federal Energy Regulatory Commission

[Docket No. EG08-75-000; EG08-76-000; FC08-6-000; FC08-7-000; FC08-8-000; FC08-9-000]

Notrees Windpower, LP; Windthorst-1, LLC; SunEdison International, LLC; P.P.C. Limited; Atlantic Equipment & Power (Turks and Caicos) Ltd.; Belize Electric Company Limited; Notice of Effectiveness of Exempt Wholesale Generator or Foreign Utility Company Status

September 26, 2008.

Take notice that during the month of August 2008, the status of the above-captioned entities as Exempt Wholesale Generators or Foreign Utility Companies became effective by operation of the Commission's regulations 18 CFR 366.7(a).

Kimberly D. Bose,
Secretary.

[FR Doc. E8-23212 Filed 10-1-08; 8:45 am]

BILLING CODE 6717-01-P